DEPARTMENT OF THE INTERIOR

National Park Service

[NPS-WASO-NAGPRA-NPS0034234; PPWOCRADN0-PCU00RP14.R50000]

Notice of Inventory Completion: Coe College, Cedar Rapids, IA

AGENCY: National Park Service, Interior.

ACTION: Notice.

SUMMARY: Coe College, with the assistance of the Office of the State Archaeologist Bioarchaeology Program (previously listed as the Office of the State Archaeologist Burials Program), has completed an inventory of human remains, in consultation with the appropriate Indian Tribes or Native Hawaiian organizations, and has determined that there is no cultural affiliation between the human remains and any present-day Indian Tribes or Native Hawaiian organizations. Representatives of any Indian Tribe or Native Hawaiian organization not identified in this notice that wish to request transfer of control of these human remains should submit a written request to Coe College through the Office of the State Archaeologist Bioarchaeology Program. If no additional requestors come forward, transfer of control of the human remains to the Indian Tribes or Native Hawaiian organizations stated in this notice may proceed.

DATES: Representatives of any Indian Tribe or Native Hawaiian organization not identified in this notice that wish to request transfer of control of these human remains should submit a written request with information in support of the request to Coe College through the Office of the State Archaeologist Bioarchaeology Program at the address in this notice by August 22, 2022.

FOR FURTHER INFORMATION CONTACT: Dr. Lara Noldner, Office of the State Archaeologist Bioarchaeology Program, University of Iowa, 700 S Clinton Street, Iowa City, IA 52242, telephone (319) 384-0740, email lara-noldner@uiowa.edu.

SUPPLEMENTARY INFORMATION: Notice is here given in accordance with the Native American Graves Protection and Repatriation Act (NAGPRA), 25 U.S.C. 3003, of the completion of an inventory of human remains under the control of Coe College, Cedar Rapids, IA. The human remains were removed from Joe Daviess County, IL and Delaware County, IN.

This notice is published as part of the National Park Service's administrative responsibilities under NAGPRA, 25 U.S.C. 3003(d)(3) and 43 CFR 10.11(d). The determinations in this notice are the sole responsibility of the museum, institution, or Federal agency that has control of the Native American human remains. The National Park Service is not responsible for the determinations in this notice.

Consultation

A detailed assessment of the human remains was made on behalf of Coe College by the Office of the State Archaeologist Bioarchaeology Program professional staff in consultation with representatives of the Absentee-Shawnee Tribe of Indians of Oklahoma; Bad River Band of the Lake Superior Tribe of Chippewa Indians of the Bad River Reservation, Wisconsin; Cheyenne River Sioux Tribe of the Cheyenne River Reservation, South Dakota; Citizen Potawatomi Nation, Oklahoma; Delaware Nation, Oklahoma; Delaware Tribe of Indians; Flandreau Santee Sioux Tribe of South Dakota; Forest County Potawatomi Community, Wisconsin; Hannahville Indian Community, Michigan; Ho-Chunk Nation of Wisconsin; Iowa Tribe of Kansas and Nebraska; Iowa Tribe of Oklahoma; Kaw Nation, Oklahoma; Keweenaw Bay Indian Community, Michigan; Kickapoo Tribe of Indians of the Kickapoo Reservation in Kansas; Kickapoo Tribe of Oklahoma; Kiowa Indian Tribe of Oklahoma; Lac Courte Oreilles Band of Lake Superior Chippewa Indians of Wisconsin; Lac du Flambeau Band of Lake Superior Chippewa Indians of the Lac du Flambeau Reservation of Wisconsin; Lower Sioux Indian Community in the State of Minnesota; Menominee Indian Tribe of Wisconsin; Miami Tribe of Oklahoma; Minnesota Chippewa Tribe, Minnesota (Six component reservations: Bois Forte Band (Nett Lake); Fond du Lac Band; Grand Portage Band; Leech Lake Band; Mille Lacs Band; White Earth Band); Oglala Sioux Tribe (previously listed as Oglala Sioux Tribe of the Pine Ridge Reservation, South Dakota); Omaha Tribe of Nebraska; Otoe-Missouria Tribe of Indians, Oklahoma; Peoria Tribe of Indians of Oklahoma; Prairie Band Potawatomi Nation (previously listed as Prairie Band of Potawatomi Nation, Kansas); Prairie Island Indian Community in the State of Minnesota; Red Cliff Band of Lake Superior Chippewa Indians of Wisconsin; Sac & Fox Nation of Missouri in Kansas and Nebraska; Sac & Fox Nation, Oklahoma; Sac & Fox Tribe of the Mississippi in Iowa; Santee Sioux Nation, Nebraska; Sisseton-Wahpeton Oyate of the Lake Traverse Reservation, South Dakota; Sokaogon Chippewa Community, Wisconsin; Spirit Lake Tribe, North Dakota; Standing Rock Sioux Tribe of North & South Dakota; The Osage Nation (previously listed as Osage Tribe); Three Affiliated Tribes of the Fort Berthold Reservation, North Dakota; United Keetoowah Band of Cherokee Indians in Oklahoma; Upper Sioux Community, Minnesota; Winnebago Tribe of Nebraska; and the Yankton Sioux Tribe of South Dakota (hereafter referred to as “The Tribes”).

History and Description of the Remains

In 1890 and 1891, human remains representing, at minimum, four individuals were removed from a mound in Jo Daviess County, IL. Based on the location description, it appears the mound was one of the Crooked Slough Mounds (11JD341). The human remains were excavated by a group of students from Coe College, who donated the skeletal material to the Coe College Museum, also known as the Bert Bailey Museum. In 2012, the human remains were loaned to the Office of the State Archaeologist so that the Bioarchaeology Program could assist Coe College with NAGPRA compliance. The human remains consist of three adults of unknown age and sex, and one juvenile 1-3 years old of unknown sex (Burial Project 1934). No known individuals were identified. No associated funerary objects are present.

The overall condition of all of the human remains, supported by the limited provenience information available, suggests a date in antiquity. The cranial metrics and severe dental attrition observed on some individuals are both consistent with characteristics of prehistoric Native Americans. However, these human remains cannot be dated or attributed to a particular archeological context in Illinois.

At an unknown date, human remains representing, at minimum, three individuals were removed from a mound at an unknown location in Delaware County, IN. The circumstances of the removal are unknown, but the human remains (Accession #2106) were stored in the collections of the Coe College Museum, also known as the Bert Bailey Museum, in Cedar Rapids, IA. The style of the accession tag is identical to those used for late 19th century donations to the museum. In 2012, the human remains were loaned to the Office of the State Archaeologist so that the Bioarchaeology Program could assist Coe College with NAGPRA compliance. An older, possibly male adult and two adolescents or young adults are represented by the human remains (Burial Project 1934). No known individuals were identified. No associated funerary objects are present.

Determinations Made by Coe College

Officials of Coe College, with the concurrence of the Office of the State Archaeologist Bioarchaeology Program, have determined that:

• Pursuant to 25 U.S.C. 3001(9), the human remains described in this notice are Native American based on archival information, archeological evidence, and/or osteological analysis.

• Pursuant to 25 U.S.C. 3001(9), the human remains described in this notice represent the physical remains of seven individuals of Native American ancestry.

• Pursuant to 25 U.S.C. 3001(2), a relationship of shared group identity cannot be reasonably traced between the Native American human remains and any present-day Indian Tribe.

• According to final judgments of the Indian Claims Commission or the Court of Federal Claims, the land from which the Native American human remains were removed is the aboriginal land of The Tribes.

• Pursuant to 43 CFR 10.11(c)(1), the disposition of the human remains may be to The Tribes.

Additional Requestors and Disposition

Representatives of any Indian Tribe or Native Hawaiian organization not identified in this notice that wish to request transfer of control of these human remains should submit a written request with information in support of the request to Dr. Lara Noldner, Office of the State Archaeologist Bioarchaeology Program, University of Iowa, 700 S Clinton Street, Iowa City, IA 52242, telephone (319) 384-0740, email lara-noldner@uiowa.edu, by August 22, 2022. After that date, if no additional requestors have come forward, transfer of control of the human remains to The Tribes may proceed.

Coe College, with the assistance of the Office of the State Archaeologist Bioarchaeology Program, is responsible for notifying The Tribes that this notice has been published.

Dated: July 13, 2022.
Melanie O'Brien,
Manager, National NAGPRA Program.

[FR Doc. 2022-15549 Filed 7-20-22; 8:45 am]

BILLING CODE 4312-52-P